ENVIRONMENTAL PROTECTION AGENCY

[EPA-HQ-OPP-2015-0389; FRL-9929-01]

Pesticides; Risk Management Approach To Identifying Options for Protecting the Monarch Butterfly; Notice of Availability and Public Comment Opportunity

AGENCY: Environmental Protection Agency (EPA).

ACTION: Notice.

SUMMARY: EPA is announcing the availability of a document for public review and comment that describes the Agency's management approach for understanding and identifying protections for the monarch butterfly. This document is the start of an approach for monarch butterfly protection and weed management which will depend upon (i) input from a diverse group of stakeholders to identify and integrate information with respect to influences on the population dynamics of the monarch butterfly and the milkweed plant; and, (ii) cooperation and collaboration from these diverse stakeholders to identify activities that will balance weed management needs across varied landscapes with conservation of the milkweed plant. EPA is soliciting public comment on which potential action or a combination of actions would be the most effective in reducing the impacts of herbicides on the monarch butterfly.

DATES: Comments must be received on or before July 24, 2015.

ADDRESSES: Submit your comments, identified by docket identification (ID) number EPA-HQ-OPP-2015-0389, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Khue Nguyen, Pesticide Re-Evaluation Division (7508P), Office of Pesticide Programs, Environmental Protection Agency, 1200 Pennsylvania Ave. NW., Washington, DC 20460-0001; telephone number: (703) 347-0248; email address: nguyen.khue@epa.gov.

SUPPLEMENTARY INFORMATION:

I. General Information

A. Does this action apply to me?

This action is directed to the public in general, and may be of interest to a wide range of stakeholders including environmental, human health, farmworker, and agricultural advocates; the chemical industry; pesticide users; and members of the public interested in the sale, distribution, or use of pesticides. Since others also may be interested, the agency has not attempted to describe all the specific entities that may be affected by this action.

B. What should I consider as I prepare my comments for EPA?

1. Submitting CBI. Do not submit this information to EPA through http://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What Action is the Agency Taking?

EPA is taking public comment on a document entitled, Risk Management Approach to Identifying Options for Protecting the Monarch Butterfly, a copy of which is available in the docket at http://www.regulations.gov under docket ID number EPA-HQ-OPP-2015-0389. The document identifies the types of information that EPA believes may be important to have in order to identify appropriate actions to take under the Federal Insecticide, Fungicide, and Rodenticide Act (FIFRA) to protect monarch butterflies (including milkweed resources) while also enabling pesticide users to meet important weed management needs. EPA is initiating efforts focused specifically on the monarch butterfly for several reasons.

First, the U.S. has been engaged in an effort with Canada and Mexico through the Canada/Mexico/U.S. Trilateral Committee for Wildlife and Ecosystem Conservation and Management, where the three partner nations have agreed to make natural resource conservation a priority. Consistent with its objective to conserve and manage natural resources across North America, the committee has recognized the monarch butterfly as an emblematic species shared by the three countries and renewed their collaborative effort to protect the species and its required resources.

Secondly, in addition to the efforts of the Trilateral Committee, President Obama issued a memorandum on pollinator protection entitled, Creating a Federal Strategy to Promote the Health of Honey Bees and other Pollinators. The memorandum highlights the importance of the monarch butterfly and establishes a task force of Federal agencies to develop a strategy to conserve pollinators and the monarch butterfly in particular. The memorandum states that the task force is to develop a strategy that looks to developing partnerships with external stakeholders such as state, tribal and local governments, farmers, corporations, and non-governmental organizations to achieve the goal of protecting and conserving the monarch butterfly and its habitat.

Finally, in February 2014, EPA's Office of Pesticide Programs (OPP) received a petition from the Natural Resources Defense Council (NRDC) asking EPA to take actions to reduce the use of the herbicide glyphosate because NRDC believes that the widespread use of glyphosate has impacted the monarch butterfly by reducing the presence of the milkweed. While EPA has denied NRDC's petition, EPA concludes that its ongoing efforts to protect bees, in conjunction now with this effort to protect the monarch butterfly, are in line with the objectives of the NRDC petition.

In addition, together with several non-governmental organizations, various agencies within the Federal government have been working collaboratively with the Monarch Joint Venture to develop and implement measures to protect monarch butterflies and their migration. The approach and objectives outlined in Risk Management Approach to Identifying Options for Protecting the Monarch Butterfly will support and complement the actions and objectives of the Trilateral Committee and the Presidential Memorandum on Pollinator Health.

EPA is soliciting public comment on which potential action or a combination of actions would be the most effective in reducing the impacts of herbicides on the monarch butterfly. The agency is also requesting that any additional measures not discussed here be identified.

Please note that the approach discussed in Risk Management Approach to Identifying Options for Protecting the Monarch Butterfly is intended to provide guidance to EPA personnel and decision-makers and to pesticide registrants. While the requirements in the statutes and Agency regulations are binding on EPA and the applicants, this guidance document is not binding on either EPA or pesticide registrants, and EPA may depart from the guidance where circumstances warrant and without prior notice. Likewise, pesticide registrants may assert that the guidance is not applicable to a specific pesticide or situation.

Authority: 7 U.S.C. 136 et seq.

Dated: June 16, 2015.
Jack Housenger,
Director, Office of Pesticide Programs.

[FR Doc. 2015-15405 Filed 6-23-15; 8:45 am]

BILLING CODE 6560-50-P